NUCLEAR REGULATORY COMMISSION

[Docket Nos. 50-445 and 50-446]

TXU Generation Company, LP; Biweekly Notice; Notice of Issuance of Amendments to Facility Operating Licenses; Correction

AGENCY: Nuclear Regulatory Commission.

ACTION: Notice of Issuance; Correction.

SUMMARY: This document corrects a notice appearing in the Federal Register on October 25, 2005 (70 FR 61667), that incorrectly issued Amendment No. 120 for Units 1 and 2. The correct amendment No. is 122. This action is necessary to correct the incorrect amendment numbers.

FOR FURTHER INFORMATION CONTACT: Mohan C. Thadani, PM, Office of Nuclear Reactor Regulation, U.S. Nuclear Regulation Commission, Washington, DC 20555-0001; telephone (301) 415-1476, e-mail: mct@nrc.gov.

SUPPLEMENTARY INFORMATION: On page 61667, in the first column, in the first complete notice, sixteenth line, it is corrected to read from “Amendment Nos. 120 and 120” to “Amendment Nos. 122 and 122”.

Dated in Rockville, Maryland, this 4th day of November 2005.
For the Nuclear Regulatory Commission.
Mohan C. Thadani,
Senior Project Manager, Section 1, Project Directorate IV, Division of Licensing Project Management, Office of Nuclear Reactor Regulation.

[FR Doc. E5-6273 Filed 11-14-05; 8:45 am]

BILLING CODE 7590-01-P